DEPARTMENT OF COMMERCE

National Oceanic and Atmospheric Administration

Agency Information Collection Activities; Submission to the Office of Management and Budget (OMB) for Review and Approval; Comment Request; West Coast Region Permit Family of Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 20, 2026.

ADDRESSES: Interested persons are invited to submit written comments to Adrienne Thomas, NOAA PRA Officer, at NOAA.PRA@noaa.gov. Please reference OMB Control Number 0648-0204 in the subject line of your comments. Do not submit Confidential Business Information or otherwise sensitive or protected information.

FOR FURTHER INFORMATION CONTACT: Requests for additional information or specific questions related to collection activities should be directed to: Karen Palmigiano, West Coast Region (WCR) Permits Specialist, at NOAA WCR, 7600 Sand Point Way NE—Building 1, Seattle, Washington (WA) 98155, (562) 980-4238, or karen.palmigiano@noaa.gov.

SUPPLEMENTARY INFORMATION:

I. Abstract

This is a request for renewal of the existing reporting requirements of the approved collection of information, West Coast Region Family of Forms (0648-0204).

The WCR Permits Office administers permits required for persons and vessels participating in Federally managed fisheries off the West Coast under the Magnuson-Stevens Fishery Conservation and Management act, 16 U.S.C. 1801 et seq. Section 303 (b) (1) of the Magnuson-Stevens Act specifically authorizes the establishment of permit requirements. Almost all international, federal, state, and local fishery management authorities use permits as part of their management systems.

The Magnuson-Stevens Act established regional fishery management councils, including the Pacific Fishery Management Council (Pacific Council), to develop fishery management plans (FMP) for fisheries in the United States (U.S.) exclusive economic zone (EEZ). These plans, if approved by the Secretary of Commerce, are implemented by Federal regulations, which are enforced by the National Marine Fisheries Service (NMFS) and the U.S. Coast Guard (USCG), in cooperation with State agencies to the extent possible. FMPs are intended to regulate fishing for stocks to prevent overfishing and achieve the optimum yield from the fisheries for the benefit of the U.S. The Pacific Council has prepared FMPs for the coastal pelagic species (CPS) fishery and Pacific Highly Migratory Species (HMS) off the U.S. West Coast. Each of these FMPs created permit programs which are administered by the West Coast Region, NMFS.

There are two types of regulatory permits used by the WCR: Open access fishery permits and limited entry permits for selected fisheries. Open access permits are used in all fisheries where there are no specific limitations or eligibility criteria for entry to the fishery. Limited entry permits are used to prevent overcapitalization or address other management goals in the fishery and limit the number of applicants permitted to participate in the fishery. Applicants for both open access and limited entry permits are required to submit applications to obtain these permits but are not required to submit reports on their fishing activities under these permits. These permits are part of information collection request (ICR) 0648-0204.

Exempt fishing permits (EFPs) are issued to applicants for fishing activities that would otherwise be prohibited under a fisheries management plan. Applicants for an EFP must submit written information that allows NOAA and the Pacific Council to evaluate the proposed EFP activities and weigh the benefits and costs of the proposed activities. The Council makes a recommendation on each EFP application and for successful applicants, NOAA Fisheries issues the EFP which contains terms and conditions for the project including various reporting requirements. The information included in an application is specified at 50 CFR 600.745(b)(2) and the Pacific Council Operating Procedure #19. EFP holders are required to file preseason harvest plans, interim and/or final summary reports on the results of the project, and in some cases individual vessels and other permit holders are required to provide data reports (i.e., logbooks and/or catch reports). The results of EFPs are commonly used to explore ways to reduce effort on depressed stocks, encourage innovation and efficiency in the fishery, and provide access to constrained stocks by directly measuring the bycatch associated with current and proposed management measures. EFPs are currently part of ICR 0648-0204.

Letters of Authorization (LOAs) and Exempted Educational Activity Authorizations (EEAAs) are types of permits used to grant exemptions from fishery regulations for educational or other activities (e.g., using nonregulation gear). An EEAA is issued by the WCR to accredited educational institutions that authorize, for educational purposes, the target or incidental harvest of species managed under a fisheries management plan or fishery regulations that would otherwise be prohibited. EEAAs are generally of limited scope and duration and authorize the take of the amount of fish necessary to demonstrate the lesson. Researchers are requested to submit scientific research plans prior to undertaking those activities, along with reports of their scientific research activity after its completion. LOAs are required under Section 101(a)(5)(A) of the Marine Mammal Protection Act (MMPA) of 1972 for the incidental take of marine mammals during fisheries surveys and related research activities conducted by the Northwest Fisheries Science Center (NWFSC), NMFS. Management of certain marine mammals falls under the jurisdiction of the NMFS under the MMPA and Endangered Species Act (ESA) and mechanisms exist under both the MMPA and ESA to assess the effect of incidental takings and to authorize appropriate levels of take.

II. Method of Collection

The primary method of collection is via an electronic (internet) submission form; paper applications are also available and may be submitted by mail to the Long Beach Permits Office.

III. Data

OMB Control Number: 0648-0204.

Form Number(s): None.

Type of Review: Regular submission (extension of a current information collection).

Affected Public: Business or other for-profit organizations.

Estimated Number of Respondents: 1,099.

Estimated Time per Response: Highly Migratory Species (Paper), New—20 minutes; Highly Migratory Species (Online), New—15 minutes; HMS Paper; Renew—10 minutes; HMS Online, Renew—5 minutes ; CPS Renewal—10 minutes; CPS Transfer—30 minutes; LE DGN Renew—10 minutes; LE DGN Transfer—30 minutes; LE DGN Designation Request—30 minutes; LE DGN Exemption Request—30 minutes; Appeals—240 minutes; Scientific research plans—13 hours; scientific research reports—7 hours exempted fishing permit requests; 60 minutes, exempted fishing permit reports, 4.5 hours; exempted educational requests, 5 hours; exempted educational reports, 2.5 hours.

Estimated Total Annual Burden Hours: 233 hours.

Estimated Total Annual Cost to Public: $4,780.

Legal Authority: MSA, MMPA, ESA.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request (ICR). Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-23564 Filed 12-19-25; 8:45 am]

BILLING CODE 3510-22-P